DEPARTMENT OF STATE

[Public Notice 9029]

Notice of Receipt of Kinder Morgan Cochin, LLC, Application for a Presidential Permit To Operate and Maintain Pipeline Facilities on the Border of the United States and Canada

AGENCY: Department of State.

ACTION: Notice.

SUMMARY: Notice is hereby given that the Department of State (DOS) has received information from Kinder Morgan Cochin, LLC (“KM Cochin”) that, by way of corporate succession, KM Cochin now owns, operates, and maintains pipeline facilities previously owned by Dome Pipeline Corporation (“Dome Pipeline”), at the U.S.-Canadian border in Detroit, Michigan (the “Detroit River Crossing”). The Detroit River Crossing is permitted under a 1972 Presidential Permit issued to Dome Pipeline for the transmission of petroleum, petroleum products, and other liquid hydrocarbons. KM Cochin requests a new Presidential Permit be issued to reflect its ownership of the Detroit River Crossing. KM Cochin has stated that it intends to operate and maintain the Detroit River Crossing in a manner that is substantially unchanged from the terms of the existing permit. KM Cochin's application is available at http://www.state.gov/e/enr/applicant/applicants/index.htm.

KM Cochin is a Delaware limited liability company with its principal office at 500 Dallas Street, Suite 1000, Houston, TX 77002. It is engaged in the interstate, intrastate and international transportation by pipeline of light liquid hydrocarbons. KM Cochin is an indirectly wholly owned subsidiary of KMP, a Delaware master limited partnership listed on the NYSE as “KMP”, with its principal office at 500 Dallas Street, Suite 1000, Houston, TX 77002. The general partner of KMP is Kinder Morgan G.P., Inc., (“KMGP”) a Delaware corporation, which is owned by Kinder Morgan, Inc., (“KMI”, as listed on the NYSE), a Delaware corporation. KMP is owned by KMI through common and class B limited partner units, by KMG though its 1% general partner interest, and by public investors as limited partners holding common units purchased on the NYSE.

Under E.O. 13337 the Secretary of State is designated and empowered to receive all applications for Presidential Permits for the construction, connection, operation, or maintenance at the borders of the United States, of facilities for the exportation or importation of liquid petroleum, petroleum products, or other non-gaseous fuels to or from a foreign country. The Department of State is circulating this application to concerned federal agencies for comment. The Department of State has the responsibility to determine whether issuance of a new Presidential Permit reflecting the change in ownership or control of the Detroit River Crossing would serve the U.S. national interest.

Consistent with Public Notice 5092, (Procedures for Issuance of a Presidential Permit Where There Has Been a Transfer of the Underlying Facility, Bridge or Border Crossing for Land Transportation, 70 FR 30990, issued on May 31, 2005), the Department typically does not conduct environmental analysis when deciding whether to issue a permit that reflects a change in ownership or control of an existing border facility, where that change in ownership or control is not accompanied by changes to the facilities or their use as authorized by the existing permit unless information is brought to the Department's attention in connection with the application process that the transfer potentially would have a significant impact on the quality of the human environment.

DATES: Interested parties are invited to submit comments within 30 days of the publication date of this notice on http://www.regulations.gov with regard to whether issuing a new Presidential Permit reflecting the corporate succession and authorizing KM Cochin to operate and maintain the Detroit River Crossing would be in the national interest. To submit a comment, go to http://www.regulations.gov, enter the title of this Notice into the search field and follow the prompts. Or: To submit a comment, go to http://www.regulations.gov, enter Docket No. DOS-2015-0005, and follow the prompts. Written comments should be addressed to: Mr. Chris Davy, U.S. Department of State, 2201 C Street NW., Suite 4843, Washington, DC 20520.

Comments are not private. They will be posted on the site. The comments will not be edited to remove identifying or contact information, and the State Department cautions against including any information that one does not want publicly disclosed. The State Department requests that any party soliciting or aggregating comments received from other persons for submission to the State Department inform those persons that the State Department will not edit their comments to remove identifying or contact information, and that they should not include any information in their comments that they do not want publicly disclosed.

FOR FURTHER INFORMATION CONTACT: Office of Energy Diplomacy, Energy Resources Bureau (ENR/EDP/EWA), Department of State, 2201 C St. NW., Ste. 4843, Washington, DC 20520, Attn: Chris Davy, Tel: 202-647-7553.

Dated: January 27, 2015.
Chris Davy,
Office Director, Office of Europe, Western Hemisphere and Africa, Bureau of Energy Resources, U.S. Department of State.

[FR Doc. 2015-02245 Filed 2-3-15; 8:45 am]

BILLING CODE 4710-AE-P